COMMISSION ON CIVIL RIGHTS

Agenda and Notice of Public Meeting of the Texas Advisory Committee

Notice is hereby given, pursuant to the provisions of the rules and regulations of the U.S. Commission on Civil Rights (Commission), and the Federal Advisory Committee Act (FACA), that a planning meeting of the Texas Advisory Committee to the Commission will convene by conference call at 10 a.m. and adjourn at approximately 12 noon on Wednesday, February 23, 2011 at 2300 E. University Drive, Denton, TX, 76206. The purpose of this meeting is to discuss the Committee's civil rights project on human trafficking.

Members of the public are entitled to submit written comments; the comments must be received in the regional office by March 23, 2011. The address is 300 N. Los Angeles St., Suite 2010, Los Angeles, California 90012. Persons wishing to e-mail their comments or who desire additional information should contact Angelica Trevino, Administrative Assistant, at (213) 894-3437 or (800) 877-8339 for individuals who are deaf, hearing impaired, and/or have speech disabilities or by e-mail to: atrevino@usccr.gov.

Hearing-impaired persons who wish to submit written comments and require the services of a sign language interpreter should contact the Regional Office at least ten (10) working days before the scheduled date of the meeting.

Records generated from this meeting may be inspected and reproduced at the Western Regional Office, as they become available, both before and after the meeting. Persons interested in the work of this advisory committee are advised to go to the Commission's Web site, http://www.usccr.gov, or to contact the Western Regional Office at the above e-mail or street address.

The meeting will be conducted pursuant to the provisions of the rules and regulations of the Commission and FACA.

Dated in Washington, DC, January 27, 2011.
Peter Minarik,
Acting Chief, Regional Programs Coordination Unit.

[FR Doc. 2011-2213 Filed 2-1-11; 8:45 am]

BILLING CODE 6335-01-P